DEPARTMENT OF COMMERCE

International Trade Administration

Request for Applicants for the Appointment to the United States-Brazil CEO Forum

AGENCY: International Trade Administration, Department of Commerce.

ACTION: Notice.

SUMMARY: In March 2007, the Governments of the United States and Brazil established the U.S.-Brazil CEO Forum. This notice announces membership opportunities for appointment as American representatives to the U.S. Section of the Forum. The current U.S. Section term will expire on May 18, 2009.

DATES: Applications should be received no later than May 29, 2009.

ADDRESSES: Please send requests for consideration to Lorrie Fussell, Brazil Desk Officer, Office of South America, U.S. Department of Commerce, either by e-mail at lorrie.fussell@ita.doc.gov or by mail to U.S. Department of Commerce, 1401 Constitution Avenue, NW., Room 3203, Washington, DC 20230.

FOR FURTHER INFORMATION CONTACT: Lorrie Fussell, Brazil Desk Officer, Office of South America, U.S. Department of Commerce, telephone: (202) 482-4157.

SUPPLEMENTARY INFORMATION: The U.S. Secretary of Commerce and the Deputy Assistant to the President and Deputy National Security Advisor for International Economic Affairs, together with the Planalto Casa Civil Minister (Presidential Chief of Staff) and the Brazilian Minister of Development, Industry and Foreign Trade, co-chair the U.S.-Brazil CEO Forum, pursuant to the Terms of Reference signed in March 2007, by the U.S. and Brazilian governments, which set forth the objectives and structure of the Forum. The Terms of Reference may be viewed at: http://trade.gov/press/press_releases/2007/brazilceo_02.asp. The Forum, consisting of both private and public-sector members, brings together leaders of the respective business communities of the United States and Brazil to discuss issues of mutual interest, particularly ways to strengthen the economic and commercial ties between the two countries. The Forum consists of the U.S. and Brazilian co-chairs and a Committee comprised of private sector members. The Committee will be composed of two Sections each consisting of eight to ten members from the private sector, representing the views and interests of the private sector business community in the United States and Brazil. Each government will appoint the members to its respective Section. The Committee will provide recommendations to the two governments that reflect private sector views, needs and concerns regarding creating an economic environment in which their respective private sectors can partner, thrive and enhance bilateral commercial ties to expand trade between the United States and Brazil.

Candidates are currently sought for membership on the U.S. Section of the Forum. Each candidate must be Chief Executive Officer or President (or comparable level of responsibility) of a U.S. owned or controlled company that is incorporated in and has its main headquarters located in the United States and currently doing business in Brazil and the United States. Each candidate also must be a U.S. citizen or otherwise legally authorized to work in the United States and able to travel to Brazil and locations in the United States to attend official Forum meetings as well as independent U.S. Section and Committee meetings. In addition, the candidate may not be a registered foreign agent under the Foreign Agents Registration Act of 1938, as amended.

Evaluation of applications for membership in the U.S. Section by eligible individuals will be based on the following criteria:

—A demonstrated commitment by the individual's company to the Brazilian market either through exports or investment.

—A demonstrated strong interest in Brazil and its economic development.

—The ability to offer a broad perspective and business experience to the discussions.

—The ability to address cross-cutting issues that affect the entire business community.

—The ability to initiate and be responsible for activities in which the Forum will be active.

Members will be selected on the basis of who will best carry out the objectives of the Forum as stated in the Terms of Reference establishing the U.S.-Brazil CEO Forum. The U.S. Section of the Forum should also include members that represent a diversity of business sectors and geographic locations. To the extent possible, Section members also should represent a cross-section of small, medium, and large firms.

U.S. members will receive no compensation for their participation in Forum related activities. Individual members will be responsible for all travel and related expenses associated with their participation in the Forum, including attendance at Committee and Section meetings. Only appointed members may participate in official Forum meetings; substitutes and alternates will not be designated. U.S. members will normally serve for two-year terms, but may be reappointed.

To be considered for membership, please submit the following information as instructed in the ADDRESSES and DATES captions above: Name(s) and title(s) of the individual(s) requesting consideration; name and address of company's headquarters; location for incorporation; size of the company; size of company's export trade, investment, and nature of operations or interest in Brazil; and a brief statement of why the candidate should be considered, including information about the candidate's ability to initiate and be responsible for activities in which the Forum will be active. Applications will be considered as they are received. All candidates will be notified of whether they have been selected.

Dated: April 15, 2009.
Anne Driscoll,
Director for the Office of South America.

[FR Doc. E9-9292 Filed 4-21-09; 8:45 am]

BILLING CODE P